DEPARTMENT OF VETERANS AFFAIRS

Privacy Act of 1974; System

AGENCY: Department of Veterans Affairs (VA).

ACTION: Notice of Amendment to System of Records.

SUMMARY: The Privacy Act of 1974 (5 U.S.C. 552(e)(4)) requires that all agencies publish in the Federal Register a notice of the existence and character of their systems of records. Notice is hereby given that the Department of Veterans Affairs (VA) is amending the system of records entitled “Vietnam Veterans Readjustment Counseling Program—VA” (64VA116) as set forth in the Federal Register 46 FR 9844 dated 1/29/81 and as amended in 56 FR 26186 dated 6/6/91. VA is amending the system by revising the System Name and the paragraphs for System Location, Categories of Individuals Covered by the System, Categories of Records in the System, and Policies and Practices for Storing, Retrieving, Retaining, and Disposing of Records in the System, including Storage, Retrievability and Safeguards. VA is republishing the system notice in its entirety at this time.

DATES: Comments on the amendment of this system of records must be received no later than July 2, 2001. If no public comment is received, the amended system will become effective July 2, 2001.

ADDRESSES: Written comments concerning the proposed new system of records may be submitted to the Office of Regulations Management (02D), Department of Veterans Affairs, 810 Vermont Avenue, NW., Washington, DC 20420. Comments will be available for public inspection at the above address in the Office of Regulations Management, Room 1158, between the hours of 8 a.m. and 4:30 p.m., Monday through Friday (except holidays).

FOR FURTHER INFORMATION CONTACT: Veterans Health Administration (VHA) Privacy Act Officer, Department of Veterans Affairs, 810 Vermont Avenue, NW., Washington, DC 20420, telephone (727) 320-1839.

SUPPLEMENTARY INFORMATION: The name and number of the system is changed from “Vietnam Veterans Readjustment Counseling Program-VA” (64VA116) to “Readjustment Counseling Service (RCS) Vet Center Program-VA” (64VA15). The change in name will more accurately reflect the broader group of veterans receiving services and the environment in which the services are delivered.

For purposes of this notice changes have been made to update the following sections: The System Location; Categories of Individuals Covered by the System; Categories of Records in the System; and Policies and Practices for Storing, Retrieving, and Disposing of Records in the System. Changes in the system location section reflect the fact that some Vet Centers have relocated to new addresses, and that the total number of Vet Centers has increased since the last notice was published. Changes in the law extending eligibility for readjustment counseling at Vet Centers to all veterans who served in any war or armed conflict necessitated the changes to the categories of individuals covered by the system. No new categories of information will be collected by this system of records. Changes to this section were to more accurately clarify the types of demographic and clinical information collected. As previously, this system of records will be stored in secure files at the Vet Centers, but changes in the law now require the records to be retained for 50 years after the date of last activity. Changes to the latter two sections also reflect advances in computer technology.

The notice of intent to publish and an advance copy of the system notice have been sent to the appropriate Congressional committees and to the Director of the Office of Management and Budget (OMB) as required by 5 U.S.C. 552a(r) (Privacy Act) and guidelines issued by OMB (65 FR 77677), December 12, 2000.

Approved: May 11, 2001.
Anthony J. Principi,
Secretary of Veterans Affairs.

64VA15

System Name:

Readjustment Counseling Service (RCS) Vet Center Program—VA.

System Location:

(a) Counseling Folder: Maintained at each individual Vet Center providing readjustment counseling throughout the country. The locations of all Vet Centers providing readjustment counseling are listed in VA Appendix 2 of the Biennial Privacy Act Issuances publication.

(b) Client Information File: Certain information extracted from the counseling folder is stored on stand-alone personal computers at each Vet Center, each of the seven RCS regional managers' offices, and the RCS national data coordinator's office.

Categories of Individuals Covered by the System:

Eligible veterans who request and/or are provided readjustment counseling, including veterans' family members and/or other persons of significant relationship to the veteran who are eligible. Eligibility for readjustment counseling at Vet Centers includes any veteran who served in the military in a theater of combat operations during any period of war, or in any area during a period in which armed hostilities occurred. Family members are also eligible for readjustment counseling to the extent necessary to assist the veteran.

Categories of Records in the System:

(a) Counseling Folder: All written intake forms, applications, progress notes and demographic and clinical documentation deemed necessary to provide quality counseling and continuity of care by the counselors and/or program officials. This would include all information collected for the computerized database. (b) Client Information File: Unique veteran identification number; social security number; Vet Center team number; marital status; gender; birth date; service dates; branch of service; veteran eligibility information; theater of operation; service-connection; discharge; referral source; visit information and treatment; and other statistical information about services provided to that veteran.

Authority for Maintenance of the System:

Title 38, United States Code, Section 1712A.

Purpose(s):

The purpose of this system of records is to collect and maintain all demographic and clinical information required to conduct a psychological assessment, to include a military history, and provide quality readjustment counseling to assist veterans resolve war trauma and improve their level of post-war functioning.

Routine Uses of Records Maintained in the System, Including Categories of Users and the Purposes of Such Uses:

None.

Policies and Practices for Storing, Retrieving, Accessing, Retaining, and Disposing of Records in the System:

Storage:

(a) Counseling Folder: Paper documents stored in file folders. (b) Client Information File: Stored on stand-alone personal computer hard drives and any backup media.

Retrievability:

(a) Counseling Folder: Filed or indexed alphabetically by last name or unique Client Number.

(b) Client Information File: Indexed by Vet Center Number in conjunction with unique Client Number and social security number.

Safeguards:

(a) Counseling Folder: Access to records at Vet Centers will be controlled by Vet Center staff during working hours. During other hours, records will be maintained in locked file cabinets. In high crime areas, Vet Center offices are equipped with alarm systems. (b) Client Information File: The computerized file is in a stand-alone personal computer and access to records is for authorized Vet Center personnel. Access is achieved on a need-to-know basis with a password. Computer security is in compliance with RCS and VA computer security policy and protocol. All computers are password protected and stored inside the locked Vet Center.

Retention and Disposal:

(a) Counseling Folder: The records will be retained at the Vet Center for 50 years after the date of last activity. Destruction of counseling folders will be by shredding.

(b) Client Information File: Maintained for the duration of the program. Destruction will be by deleting all information on all Vet Center, RCS regional manager's office, and the RCS national data coordinator's office stand-alone personal computers containing the program database.

System Manager(s) and Address:

Chief Readjustment Counseling Officer (15), VA Central Office, 810 Vermont Ave, NW., Washington, DC 20420.

Notification Procedure:

A veteran who wishes to determine whether a record is being maintained by the Readjustment Counseling Service Vet Center Program under his or her name or other personal identifier or wishes to determine the contents of such records should submit a written request or apply in person to: (1) The Team Leader of the Vet Center, or the RCS Regional Manager having supervisory responsibility for the Vet Center, with whom he or she had contact, or (2) the Chief Readjustment Counseling Officer (15), VA Central Office, 810 Vermont Ave, NW, Washington, DC 20420. Inquiries should include the individual's full name and social security number.

Record Access Procedures:

An individual (or duly authorized representative of such individual) who seeks access to or wishes to contest records maintained under his or her name or other personal identifier may write, call or visit the above named individuals.

Contesting Record Procedures:

(See Record Access Procedures above.)

Record Source Categories:

(1) Relevant forms to be filled out by Vet Center team members on first contact and each contact thereafter; counseling sessions with veterans and other eligible counselees. (2) Other VA and Federal agency systems.

[FR Doc. 01-13687 Filed 5-30-01; 8:45 am]

BILLING CODE 8320-01-P